DEPARTMENT OF DEFENSE

Department of the Air Force

Notice of Availability (NOA) of Record of Decision (ROD) on the Realistic Bomber Training Initiative (RBTI) Final Environmental Impact Statement (FEIS)

On March 24, 2000, the United States Air Force signed the Record of Decision (ROD) for the RBTI training proposal, and has selected Alternative B (Lancer Military Operations Area (MOA) and Instrument Route 178) for implementation. RBTI is designed to more effectively and efficiently train B-1 and B-52 aircrews assigned to Dyess and Barksdale Air Force Bases (AFBs). RBTI proposes linking existing military training routes (with minor modifications) to the proposed Lancer MOA, and an electronic scoring site system. RBTI will provide realistic combat training by providing sequenced training scenarios closely resembling combat situations that require every crewmember working together to successfully complete. Lastly, RBTI will also make more efficient use of limited flight hours by reducing low-value transit time to current training ranges.

Based on the analysis presented in the FEIS released in February, agency input, and public comments, the Air Force has selected the alternative that will best achieve their goal of balancing readiness training with environmental and community concerns. Where feasible, the Air Force developed mitigation measures and/or management actions to minimize the environmental impact and address concerns and comments of agencies and the public. Additionally, the Federal Aviation Administration (FAA) was a cooperating agency in the preparation of the FEIS. The Air Force will continue to work with the FAA, other federal and state agencies, and local communities to solicit their inputs during and after the establishment of the RBTI.

Any questions regarding this matter should be directed to the Dyess AFB Public Affairs Office, 466 5th Street, Dyess AFB, TX 79607 or call 915-696-2861.

Janet A. Long,
Air Force Federal Register Liaison Officer.

[FR Doc. 00-8863 Filed 4-10-00; 8:45 am]

BILLING CODE 5001-05-P